DEPARTMENT OF TRANSPORTATION

Surface Transportation Board

[STB Ex Parte No. 657]

Rail Rate Challenges Under the Stand-Alone Cost Methodology

AGENCY: Surface Transportation Board.

ACTION: Notice of public hearing.

SUMMARY: The Surface Transportation Board (Board) will hold a public hearing beginning at 10 a.m. on Thursday, March 24, 2005, at its offices in Washington, DC, to provide interested persons an opportunity to express their views on the subject of rail rate challenges under the stand-alone cost (SAC) methodology. Persons wishing to speak at the hearing should notify the Board in writing.

DATES: The public hearing will take place on Thursday, March 24, 2005. Any person wishing to speak at the hearing should file with the Board a written notice of intent to participate, and should indicate a requested time allotment, as soon as possible but no later than March 14, 2005. Each speaker should also file with the Board his/her written testimony by March 18, 2005. Written submissions by interested persons who do not wish to appear at the hearing will also be due by March 18, 2005.

ADDRESSES: All notices of intent to participate and testimony may be submitted either via the Board's e-filing format or in the traditional paper format. Any person using e-filing should comply with the Board's http://www.stb.dot.gov Web site, at the “E-FILING” link. Any person submitting a filing in the traditional paper format should send an original and 10 copies of the filing (referring to STB Ex Parte No. 657) to: Surface Transportation Board, Attn: STB Ex Parte No. 657, 1925 K Street, NW., Washington, DC 20423-0001.

FOR FURTHER INFORMATION, CONTACT: Raymond A. Atkins, (202) 565-1624. (Assistance for the hearing impaired is available through the Federal Information Relay Service (FIRS) at: (800) 877-8339.)

SUPPLEMENTARY INFORMATION: The Board will hold a public hearing to provide a forum for the expression of views by rail shippers, railroads, and other interested persons, on the Board's consideration of rail rate challenges under the SAC methodology. This hearing will provide a forum for the discussion of any suggestions and proposals that interested persons might wish to offer regarding the Board's consideration of rail rate reasonableness challenges under the SAC methodology. The hearing is not intended to offer a forum for discussion of pending cases, but rather is intended as an opportunity for interested persons to address broader issues that may cut across SAC cases generally.

Date of Hearing. The hearing will begin at 10 a.m. on Thursday, March 24, 2005, in the 7th floor hearing room at the Board's headquarters in Washington, DC, and will continue, with short breaks if necessary, until every person scheduled to speak has been heard.

Notice of Intent To Participate. Any person wishing to speak at the hearing should file with the Board a written notice of intent to participate, and should indicate a requested time allotment, as soon as possible, but no later than March 14, 2005.

Testimony. Each speaker should file with the Board his/her written testimony by March 18, 2005. Also, any interested person who wishes to submit a written statement without appearing at the March 24 hearing should file that statement by March 18, 2005.

Board Releases and Live Audio Available Via the Internet. Decisions and notices of the Board, including this notice, are available on the Board's Web site at http://stb.dot.gov. This hearing will be available on the Board's Web site by live audio streaming. To access the hearing, click on the “Live Audio” link under “Information Center” at the left side of the home page beginning at 10 a.m. on March 24, 2005.

This action will not significantly affect either the quality of the human environment or the conservation of energy resources.

Dated: February 16, 2005.
Vernon A. Williams,
Secretary.

[FR Doc. 05-3430 Filed 2-22-05; 8:45 am]

BILLING CODE 4915-01-P